DEPARTMENT OF DEFENSE

Department of the Navy

Notice of Intent To Grant Exclusive Patent License; Daniel Defense, Inc.

AGENCY: Department of the Navy, DoD.

ACTION: Notice.

SUMMARY: The Department of the Navy hereby gives notice of its intent to grant to Daniel Defense, Inc. a revocable, nonassignable, exclusive license to practice in the United States, the Government-owned invention described below: Patent application 13/168,459 (Navy Case 100,359): filed June 24, 2011, entitled “Accessory Interface System”.

DATES: Anyone wishing to object to the grant of this license must file objections along with supporting evidence, if any, not later than February 17, 2012.

ADDRESSES: Written objections are to be filed with Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, telephone (812) 854-4100.

Authority: 35 U.S.C. 207, 37 CFR Part 404.

Dated: January 25, 2012.
J.M. Beal,
Lieutenant Commander, Judge Advocate General's Corps, U.S. Navy, Federal Register Liaison Officer.

[FR Doc. 2012-2303 Filed 2-1-12; 8:45 am]

BILLING CODE 3810-FF-P